DEPARTMENT OF HEALTH AND HUMAN SERVICES

Administration for Children and Families

Statement of Organization, Functions, and Delegations of Authority

This notice amends Part K of the Statement of Mission, Organization, Functions, and Delegations of Authority of the Department of Health and Human Services (HHS), Administration for Children and Families (ACF), as follows: The Paperwork Reduction Act function is transferred from Chapter KP, the Office of the Deputy Assistant Secretary for Administration (ODASA), as last amended in 71 FR 59117-59123, October 6, 2006, to Chapter KM, the Office of Planning, Research and Evaluation (OPRE), as last amended in 67 FR 67198, November 4, 2002. This notice announces the transfer of the Paperwork Reduction Act functions from the Office of the Deputy Assistant Secretary for Administration to OPRE. The changes are as follows:

I. Under Chapter KP, Office of the Deputy Assistant Secretary, delete Paragraph A in its entirety and replace with the following:

KP.20 Functions [71 FR 59117-59123, 10/06/06].

A. The Immediate Office of the Deputy Assistant Secretary for Administration (ODASA) directs and coordinates all administrative activities for the Administration for Children and Families (ACF). The Deputy Assistant Secretary for Administration serves as ACF's: Chief Financial Officer; Chief Grants Management Officer; Federal Managers' Financial Integrity Act (FMFIA) Management Control Officer; Principal Information Resource Management Official serving as Chief Information Officer; Deputy Ethics Counselor; and Personnel Security Representative. The Deputy Assistant Secretary for Administration serves as the ACF liaison to the Office of the General Counsel, and as appropriate, initiates action in securing resolution of legal matters relating to management of the agency, and represents the Assistant Secretary on all administrative litigation matters.

The Deputy Assistant Secretary for Administration represents the Assistant Secretary for Children and Families in HHS and with other Federal agencies and task forces in defining objectives and priorities, and in coordinating activities associated with Presidential Management Agenda initiatives. ODASA provides leadership of assigned ACF special initiatives from Departmental, Federal and non-Federal directives to improve service delivery to customers.

The Deputy Assistant Secretary for Administration provides day-to-day executive leadership and direction to the Immediate Office of the Deputy Assistant Secretary; Equal Employment Opportunity and Civil Rights Staff; Office of Information Services; Office of Financial Services; Office of Management Resources; and the Office of Grants Management. The Deputy Director for Administration assists the Deputy Assistant Secretary in carrying out the responsibilities of the Office.

The Immediate Office of the Deputy Assistant Secretary for Administration contains the Administrative Services Team, the Budget Team, and the Physical Security and Safety Team.

The Administrative Services Team provides direction in meeting the human capital management needs within ODASA. The Team provides leadership, guidance, oversight and liaison functions for ODASA personnel-related issues and activities as well as other administrative functions within ODASA. The Team coordinates with the Office of the Secretary to provide ODASA staff with a full array of personnel services, including position management, performance management, employee recognition, staffing, recruitment, employee and labor relations, employee assistance, payroll liaison, staff development and training, and special hiring and placement programs. The Team develops and maintains systems to track personnel actions to keep the Deputy Assistant Secretary for Administration and ODASA Office Directors informed about the status of personnel actions, employee programs, services and benefits.

The Budget Team manages the formulation and execution of ODASA's federal administration budget and assigned ACF program and common expense budgets. The Budget Team maintains budgetary controls on ODASA accounts, reconciling accounting reports and invoices, and monitoring all spending. The Team develops, defends and executes the assigned funds for rent, repair and alterations, facilities activities, telecommunication, information technology, personnel services and training. The Team also controls ODASA's credit card for small purchases.

The Physical Security and Safety Team is responsible for planning, managing, and directing ACF's safety, security, and emergency management programs. The Team serves as the lead for ACF in coordination and liaison with Departmental, General Services Administration (GSA) and other Federal agencies on implementation of Federal physical security directives. The Team serves as lead for all tenant security matters in the Aerospace Building. The Team is responsible for planning and executing ACF's environmental health program, and ensuring that appropriate occupational health and safety plans are in place. The Team is responsible for issuing, managing and controlling badge and cardkey systems to control access to agency space for security purposes.

B. The Office of Information Services (OIS) [67 FR 54436-40, 08/22/02] supports the Deputy Assistant Secretary in providing centralized information technology (IT) policy, procedures, standards and guidelines. The OIS Director serves as the Deputy Chief Information Officer, supporting the Chief Information Officer in the full range of activities required to carry out ACF's IT and information resource management (IRM) programs. The Office provides liaison with the Office of Management and Budget (OMB), GSA, and Government Accountability Office (GAO) on all IT and IRM matters, and manages major interdepartmental IRM initiatives. It directs and coordinates ACF's Privacy Act responsibilities, and maintains ACF records and forms management programs. OIS develops long-range IRM plans, IRM policy, procurement plans and budgets for ACF information systems. The Office develops and implements procurement strategies for Automated Data Processing (ADP) support services. OIS reviews and analyzes all ADP acquisition documentation for compliance with applicable laws and regulations as well as for procurement strategy. It coordinates technical assistance provided to program offices on ADP support services procurements. The Office oversees the implementation of e-government policies through leadership and coordination with ACF program and staff offices; develops, recommends and implements policies, procedures, standards and guidelines; and serves as the ACF liaison with HHS and other Federal and non-Federal agencies to coordinate e-government strategies and policies.

OIS plans, manages, maintains and operates ACF's local area networks, nationwide area network and personal computers; provides for equipment and software acquisition, maintenance and user support for end-user computing; and manages and maintains a Help Desk for ACF users. OIS develops and implements policies and plans for and acquires and manages data communications services; and provides liaison with HHS, GSA and private firms on data communications equipment and systems. OIS designs, develops, implements and maintains application systems to support ACF budget, program and administrative systems. The Office provides technical assistance to ACF program offices procuring system support services; technical assistance to State and local agencies on ACF computer systems; develops software policy, procedures, standards and guidelines; and conducts required Departmental reviews of ADP systems.

OIS designs, develops, and maintains system support for e-government activities; provides technical assistance to ACF program offices for e-government support services; and provides technical assistance on e-government systems to State and local agencies. The Office develops and/or implements agency telecommunications management policy in accordance with Federal regulations and procedures. The Office reviews and directs payment of agency telephone invoices. It recommends and advises on the design and function of telecommunications systems, based on user needs, costs and technological availability. The Office communicates with private industry service providers to coordinate the acquisition, installation and maintenance of voice/data telecommunications equipment and systems.

It is responsible for other sources of communications such as pagers, cellular phone service, cable TV service, and audio conferencing equipment and service. It updates and maintains the databases for telephone lines and equipment inventories.

OIS establishes, implements, maintains and oversees an IT security program that assures adequate security is provided for all agency information collected, processed, transmitted, stored or disseminated in general support systems and applications. The Office develops and implements ACF policies, standards and procedures consistent with government-wide IT security policies; conducts the ACF system security activities required by OMB IT security directives; develops, implements and maintains a security training plan for IT professionals; and provides security awareness training for all ACF staff.

II. Under Chapter KM.00, Office of Planning, Research and Evaluation, delete in its entirety and replace with the following:

KM.00 Mission [67 FR 67198, 11/04/02]. The Office of Planning, Research and Evaluation (OPRE) is the principal advisor to the Assistant Secretary for Children and Families on improving the effectiveness and efficiency of programs designed to make measurable improvements in the economic and social well-being of children and families.

The Office provides guidance, analysis, technical assistance, and oversight to ACF programs and across programs in the agency on: strategic planning aimed at measurable results; performance measurement; research and evaluation methodologies; demonstration testing and model development; statistical, policy and program analysis; synthesis and dissemination of research and demonstration findings; application of emerging technologies to improve the effectiveness of programs and service delivery; and coordinates mandated OMB information collection approvals and plans.

The Office, through the Division of Economic Independence and the Division of Child and Family Development, oversees and manages the research programs under sections 413 and 1110 of the Social Security Act, including: priority settings and analysis; managing and coordinating major cross-cutting, leading-edge studies and special initiatives; and collaborating with states, communities, foundations, professional organizations and others to promote the development of children, family-focused services, parental responsibility, employment, and economic independence. Through the Division of Child and Family Development, the Office also oversees and manages the research, demonstration, and evaluation activities under Section 649 of the Head Start Act. In addition, the Office also provides coordination and leadership in implementing the Government Performance and Results Act (GPRA).

III. Under Chapter KM, Office of Planning, Research and Evaluation, delete Paragraph A in its entirety and replace with the following:

KM.20 Functions.

A. The Office of the Director [67 FR 67198, 11/04/02] provides direction and executive leadership to OPRE in administering its responsibilities. It serves as principal advisor to the Assistant Secretary for Children and Families on all matters pertaining to: improving the effectiveness and efficiency of ACF programs; strategic planning; performance measurement; program and policy evaluation; research and demonstrations; state and local innovations and progress; and public/private partnership initiatives of concern to the Assistant Secretary for Children and Families. It represents the Assistant Secretary for Children and Families at various planning, research, and evaluation forums and carries out special Departmental and Administration initiatives. The Office coordinates mandated OMB information collection approvals and plans and includes ACF's Reports Clearance Officer.

July 14, 2010.
Carmen R. Nazario,
Assistant Secretary for Children and Families.

[FR Doc. 2010-17958 Filed 7-21-10; 8:45 am]

BILLING CODE 4184-01-P